DEPARTMENT OF THE INTERIOR

National Park Service

[NPS-AKR-LACL AND WRST-11006; 9924-PYS]

Teleconference for the National Park Service Alaska Region's Subsistence Resource Commission Program

AGENCY: National Park Service, Interior.

ACTION: Notice of open public meetings.

SUMMARY: The Lake Clark National Park Subsistence Resource Commission (SRC) and the Wrangell-St. Elias National Park SRC will meet to develop and continue work on National Park Service (NPS) subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting be announced in the Federal Register.

Public Availability Of Comments: These meetings are open to the public and will have time allocated for public testimony. The public is welcome to present written or oral comments to the SRC. The meetings will be recorded and summary minutes will be available upon request from the park superintendent for public inspection approximately six weeks after each meeting. Before including your address, telephone number, email address, or other personal identifying information in your comment, you should be aware that your entire comment—including your personal identifying information—may be made publicly available at any time. While you can ask us in your comment to withhold your personal identifying information from public review, we cannot guarantee that we will be able to do so.

Lake Clark National Park SRC Meeting Date and Location: The Lake Clark National Park SRC meeting will be held on Thursday, September 20, 2012, from 11 a.m. to 3 p.m. or until business is completed at the NPS Visitor Center in Port Alsworth, AK. Should a quorum not be available, a new meeting date and location will be published in local newspapers and announced on local radio stations.

SRC meeting dates and locations may need to be changed based on inclement weather or exceptional circumstances.

For Further Information on the Lake Clark National Park SRC Meeting Contact: Lee Fink, Acting Superintendent, at (907) 644-3626 or Mary McBurney, Subsistence Manager, at (907) 235-7891 or Clarence Summers, Subsistence Manager, NPS Alaska Regional Office, at (907) 644-3603. If you are interested in applying for Lake Clark National Park SRC membership contact the Superintendent at 240 W. 5th Avenue, Suite 236 Anchorage 99501, or visit the park Web site at: http://www.nps.gov/lacl/contacts.htm.

Proposed Lake Clark National Park A SRC Meeting Agenda:

1. Call to Order—Confirm Quorum

2. Welcome and Introductions

3. Administrative Announcements

4. Approval of Agenda and Minutes

5. SRC Member Reports on Subsistence Issues/Activities

6. Public and Other Agency Comments

7. Old Business

a. NPS Subsistence Collections Environmental Assessment Update

b. Fish and Wildlife Updates

8. NPS Staff Reports

9. New Business

10. Public and other Agency Comments

11. Select Time and Location for Next Meeting

12. Adjourn Meeting

Wrangell-St. Elias National Park SRC Meeting Date and Location: The Wrangell-St. Elias National Park SRC meeting and teleconference will be held on Tuesday, October 30, 2012, from 9 a.m. to 3 p.m. or until business is completed at the Wrangell-St. Elias National Park and Preserve Headquarter Complex in Copper Center, AK. Space for the teleconference meeting is limited. Teleconference participants should contact Barbara Cellarius, Subsistence Coordinator, via email at barbara_cellarius@nps.gov or telephone at (907) 822-5234 by 4 p.m. on Friday, October 26, 2012. Should a quorum not be available, a new meeting date and location will be published in local newspapers and announced on local radio stations. SRC meeting dates and locations may need to be changed based on inclement weather or exceptional circumstances.

For Further Information on the Wrangell-St. Elias National Park SRC Meeting Contact: Rick Obernesser, Superintendent, or Barbara Cellarius, Subsistence Manager, at (907) 822-5234 or Clarence Summers, Subsistence Manager, NPS Alaska Regional Office, at (907) 644-3603. If you are interested in applying for Wrangell-St. Elias National Park SRC membership, contact the Superintendent at P.O. Box 439, Copper Center, AK 99573, or visit the park Web site at: http://www.nps.gov/wrst/contacts.htm.

Proposed Wrangell-St. Elias National Park SRC Meeting Agenda:

1. Call to Order—Confirm Quorum

2. Welcome and Introductions

3. Administrative Announcements

4. Approval of Agenda and Minutes

5. Status of SRC Membership

6. Superintendent's Report

7. SRC Members' Reports on Subsistence Issues/Activities

8. Public and Other Agency Comments

9. Old Business

a. NPS Subsistence Collections Environmental Assessment Update

b. SRC Letters

10. New Business

a. Susitna-Watana Hydroelectric Project

11. NPS Staff Reports

a. Ranger Update

b. Resource Update

c. Wildlife Update

d. Fisheries Update

e. Subsistence Manager Update

12. Public and Other Agency Comments

13. SRC Work Session

14. Select Time and Location for Next Meeting

15. Adjourn Meeting

Debora R. Cooper,
Associate Regional Director, Resources and Subsistence, Alaska Region.

[FR Doc. 2012-23414 Filed 9-21-12; 8:45 am]

BILLING CODE 4310-GY-P